DEPARTMENT OF THE INTERIOR

Bureau of Land Management

[LLMTL06000.L12200000.DD0000.252X]

Notice of Temporary Closure of Public Lands in Fergus County, MT

AGENCY: Bureau of Land Management, Interior.

ACTION: Notice of temporary area closure.

SUMMARY: Notice is hereby given that a temporary closure of public land to motorized vehicles, hiking, or other recreational uses is in effect on 660 acres of public lands administered by the Lewistown Field Office, Bureau of Land Management, within the Limekiln Canyon/Ruby Gulch area. This notice also applies to a BLM-held easement over 80 acres of private land.

DATES: This temporary closure will be in effect for 2 years from the date this notice is published in the Federal Register.

FOR FURTHER INFORMATION CONTACT: Willy Frank, Field Manager, 920 NE Main St., Lewistown, Montana 59457; (406) 538-1918. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This temporary closure is in response to a severe wind event that heavily damaged most of the timber within this 660-acre block of BLM-managed lands in the Judith Mountains Recreation Management Area in Fergus County, Montana. The downed timber is blocking a portion of a popular loop hiking trail and, if left in place, will also contribute to the potential for catastrophic wildland fire. The BLM has contracted for road construction into the damaged area, salvage logging, and reclamation of the road once salvage logging is completed and administrative access is no longer needed. In the interim, the mixture of heavy equipment, a narrow temporary road, logging operations, steep slopes, tumbling rocks, and other debris in the construction/logging area make the area unsafe for public use, including motorized vehicles, hiking, or other recreational uses.

Approximately two-thirds of the loop hiking trail within the Limekiln Canyon/Ruby Gulch area will remain available for public use.

The area closure (including about one-third of the hiking trail) is necessary to protect the public health and safety and to enhance efficient contract administration.

The legal description of the affected lands is:

Montana Principal Meridian

T. 16 N., R. 19 E.,

Sec. 17, S½;

Sec. 20, N½ NE¼; SE¼ NE¼; N½ NE¼ SE¼; N½ NW¼;

Sec. 21, NW¼ SW¼; W½ NW¼.

The area described aggregates 660 acres.

The BLM will post closure signs at main entry points to the roads and trails in the immediate vicinity of the logging operations. The BLM will also post the closure order in the Lewistown Field Office and will keep the public informed as this project progresses via local and regional press releases and posting those releases on the BLM Montana Web site (http://www.blm.gov/mt/st/en.html). Maps of the affected areas and other documents associated with this closure are available on site and at the BLM Lewistown Field Office at 920 NE Main, Lewistown, Montana 59457.

Further information may be found in the Limekiln Canyon/Ruby Gulch Temporary Closure Environmental Assessment (EA #MT-060-2010-0029) and in the case file for EA #MT060-2009-001, the Limekiln/Ruby Timber Salvage and Thinning Project.

Under the authority of Section 303(a) of the Federal Land Policy and Management Act of 1976 (43 U.S.C. 1733(a)), 43 CFR 8360.0-7, and 43 CFR 8364.1, the BLM will enforce the following rule within the Upper Limekiln Canyon in Fergus County, Montana:

You must not use motorized vehicles, hike, or otherwise enter the public land within the closed area.

The following persons are exempt from this order: Federal, State, and local officers and employees in the performance of their official duties; members of organized rescue or fire-fighting forces in the performance of their official duties; and persons with written authorization from the Bureau of Land Management.

Penalties: Any person who violates the above restriction may be tried before a United States Magistrate and fined no more than $1,000, imprisoned for no more than 12 months, or both. Such violations may also be subject to the enhanced fines provided for by 18 U.S.C. 3571.

Gary L. “Stan” Benes,
Lewistown District Manager.

Authority: 43 CFR 8364.1.

[FR Doc. 2010-23467 Filed 9-20-10; 8:45 am]

BILLING CODE 4310-DN-P